DEPARTMENT OF THE TREASURY

Internal Revenue Service

26 CFR Part 26

[REG-128843-05]

RIN 1545-BE70

Severance of a Trust for Generation-Skipping Transfer (GST) Tax Purposes II; Correction

AGENCY: Internal Revenue Service (IRS), Treasury.

ACTION: Correction to notice of proposed rulemaking.

SUMMARY: This document contains a correction to notice of proposed rulemaking that was published in the Federal Register on Thursday, August 2, 2007 providing guidance regarding the generation-skipping transfer (GST) tax consequences of the severance of trusts in a manner that is effective under state law, but that does not meet the requirements of a qualified severance. These proposed regulations also provide guidance regarding the GST tax consequences of a qualified severance of a trust with an inclusion ratio between zero and one into more than two resulting trusts and provide special funding rules applicable to the non pro rata division of certain assets between or among resulting trusts.

FOR FURTHER INFORMATION CONTACT: Mayer R. Samuels at (202) 622-3090.

SUPPLEMENTARY INFORMATION:

Background

The notice of proposed rulemaking (REG-128843-05) that is the subject of this correction is under section 2642 of the Internal Revenue Code.

Need for Correction

As published, the notice of proposed rulemaking (REG-128843-05) contains an error that may prove to be misleading and is in need of clarification.

Correction of Publication

Accordingly, the notice of proposed rulemaking (REG-128843-05) that was the subject of FR Doc. E7-14850 is corrected as follows:

§ 26.2642-6 [Corrected]

On page 42343, column 3, § 26.2642-6(k)(1), lines 7 through 10, the language “severances occurring on or after [DATE THIS DOCUMENT IS PUBLISHED IN THE Federal Register AS FINAL REGULATIONS]. Paragraph (d)(4) and” is corrected to read “severances occurring on or after August 2, 2007. Paragraph (d)(4) and”.

LaNita Van Dyke,
Branch Chief, Publications and Regulations Branch, Legal Processing Division, Associate Chief Counsel (Procedure and Administration).

[FR Doc. E7-16619 Filed 8-22-07; 8:45 am]

BILLING CODE 4830-01-P